DEPARTMENT OF AGRICULTURE

Animal and Plant Health Inspection Service

[Docket No. APHIS-2017-0016]

Animal Disease Traceability System; Additional Public Meetings

AGENCY: Animal and Plant Health Inspection Service, USDA.

ACTION: Notice of public meetings.

SUMMARY: This is to inform the public of two additional upcoming meetings regarding the Animal Disease Traceability (ADT) system. These regional meetings will provide additional opportunities for the Animal and Plant Health Inspection Service to hear from the public, particularly from the cattle and bison sectors, about the successes and challenges of the current ADT framework and provide a venue for the exchange of ideas about ways to overcome these challenges and fill gaps in the existing system.

DATES: The meetings will be held on July 18 and 20, 2017, from 8 a.m. to 3:30 p.m. (local time) each day. We will accept written statements regarding the ADT system until July 31, 2017.

ADDRESSES: The public meetings will be held in the following locations:

• July 18: Embassy Suites Omaha Downtown, 555 South 10th Street, Omaha, NE.

• July 20: Dallas/Fort Worth Marriott Hotel & Golf Club at Champions Circle, 3300 Championship Parkway, Fort Worth, TX.

You may also submit written statements using one of the following methods:

• Federal eRulemaking Portal: Go to http://www.regulations.gov/#!docketDetail;D=APHIS-2017-0016.

• Postal Mail/Commercial Delivery: Send your comment to Docket No. APHIS-2017-0016, Regulatory Analysis and Development, PPD, APHIS, Station 3A-03.8, 4700 River Road Unit 118, Riverdale, MD 20737-1238.

FOR FURTHER INFORMATION CONTACT: Dr. Sunny Geiser-Novotny, Cattle Health Staff/ADT Veterinarian, Surveillance, Preparedness, and Response Services, VS, APHIS, 2150 Centre Avenue, Building B, Mailstop 3E13, Room 3E97, Fort Collins, CO 80526, (970) 494-7372.

SUPPLEMENTARY INFORMATION: The Animal and Plant Health Inspection Service (APHIS) plans to hold two additional public meetings to receive input, particularly from the cattle and bison sectors, on enhancing the current Animal Disease Traceability (ADT) system. During April and May 2017, meetings took place in Oklahoma City, OK; Riverdale, MD; Nashville, TN; Bloomington, MN; Denver, CO; Rancho Cordova, CA; and Billings, MT.

The original ADT framework, as described in the January 6, 2013, final rule ¹ establishing the program, provided specific performance requirements for an intentionally flexible ADT system. This let States and individual producers use personally efficient methods to meet requirements to move their livestock between States.

¹ See https://www.regulations.gov/docket?D=APHIS-2009-0091.

These meetings will provide additional opportunities for APHIS to hear from the public about the successes and challenges of the current ADT framework and let attendees brainstorm ideas about overcoming these challenges and finding ways to fill gaps in the existing system. Although APHIS is especially interested during these sessions to hear from cattle and bison industry members, we welcome participation from all members of the public.

Each meeting will start with an overview of the basic principles of ADT and progress made to date given by APHIS employees and a panel of State and industry representatives. A comment/question and answer session will follow. After a break for lunch, attendees will split off into breakout sessions to discuss challenge areas and come up with solutions. The entire group will reconvene to receive the highlights of the breakout sessions, and the meeting will end after some discussion of next steps and closing remarks.

If you are planning to attend a meeting, we ask that you register in advance by visiting http://www.aphis.usda.gov/animal-health/adt-meeting-registrations. Same-day registration will also be available at each meeting site. If you require special accommodations, such as a sign language interpreter, please call or write the individual listed under FOR FURTHER INFORMATION CONTACT. Written statements about the current ADT system may be filed at the meetings or by using one of the methods described under ADDRESSES above.

Done in Washington, DC, this 8th day of June 2017.
Michael C. Gregoire,
Acting Administrator, Animal and Plant Health Inspection Service.

[FR Doc. 2017-12190 Filed 6-12-17; 8:45 am]

BILLING CODE 3410-34-P